DEPARTMENT OF HEALTH AND HUMAN SERVICES

National Institutes of Health

Government-Owned Inventions; Availability for Licensing

AGENCY: National Institutes of Health, Public Health Service, HHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

Microdialysis Probe for Accessing Tissue in-vivo

Description of Technology: Available for licensing and commercial development is a microdialysis probe. This device permits in-vivo measurement of bioavailable substances (e.g., cytokines, growth factors, neuropeptides, inflammatory mediators, etc.) at picogram levels of concentration directly from soft tissue and organ systems. The probe may also serve as an in-situ drug delivery vehicle of micro doses of medication to specific anatomical sites by slow diffusion. It also permits measurement of efficacy of drug delivery, whether given orally, systemically or topically, at the local tissue level. It can be utilized in a variety of patient populations and conditions. For example, the probe can be used to monitor the local biochemical milieu in soft tissue and organ systems to provide insights into the pathophysiology of musculoskeletal, neuromuscular, rheumatic, gastrointestinal, renal, cardiovascular and endocrinologic diseases, cancers, dermatological conditions, and pediatric disorders, especially in premature newborns.

The probe is made from a small-bore (32 gauge) needle, whose probe surface has been fashioned to permit near trauma-less entry, containing both a fluid delivery and recovery tube within the bore. A molecular exchange membrane is positioned about 200 microns from the tip. Fluid flows across the membrane removing diffused molecules to a collection device. The rounded tip of the needle is designed to cause minimal tissue damage while allowing investigations to be performed on local tissue fluids. Additionally, this device allows simultaneous delivery of small concentrations of drug. In summary, this unique apparatus provides a minimally invasive means for sampling biological fluids in any human or animal organ or tissue and for in-situ drug-delivery, in continuous or incremental dosing, of extremely small doses.

Applications: Measurement of bioavailable substances in organs and soft tissues; Localized drug delivery vehicle; Measurement of tissue drug levels.

Market: Drug discovery; Tissue/fluid sampling; Pain management.

Inventors: Jay Shah (NIHCC), Terence Martyn Phillips (ORS), Jerome V. Danoff (NIHCC), Lynn Gerber (NIHCC).

Publication: JP Shah, TM Phillips, JV Danoff, LH Gerber. An in vivo microanalytical technique for measuring the local biochemical milieu of human skeletal muscle. J Appl Physiol. 2005 Nov; 99(5):1977-1984. Epub 2005 Jul 21.

Patent Status: U.S. Provisional Application No. 60/795,176 filed 27 Apr 2006 (HHS Reference No. E-024-2006/0-US-01).

Licensing Contact: Michael A. Shmilovich, Esq.; 301/435-5019; shmilovm@mail.nih.gov.

Fluorescent Intracellular Calcium Indicators

Description of Technology: Calcium is a key element in the regulation of many cellular processes, including muscle contraction, hormone excretion from gland cells, neurotransmitter release from nerve synapses, and the regulation of cellular metabolism. Elevated calcium levels are found in a number of diseases.

The present invention relates to chromophoric or fluorescent dye calcium indicators that are superior for measurement of high concentrations of calcium ions due to their high dissociation constants. As a result of the high calcium ion dissociation constants, the perturbation resulting from introducing the indicator into the cell is greatly reduced. These calcium ion indicators can be measured by various techniques including 19F NMR spectroscopy, flow cytometry, and quantitative fluorescence techniques, and are useful for measuring calcium levels within the cytosol or within cellular organelles.

Application: Research tool for quantifying intracellular calcium concentrations.

Inventors: Robert E. London, Louis A. Levy, and Elizabeth Murphy (NIEHS).

Patent Status: U.S. Patent Application No. 08/175,590 filed 30 Dec 1993, which issued as U.S. Patent No. 5,516,911 on 14 May 1996 (HHS Reference No. E-015-1993/0-US-01).

Licensing Status: Available for nonexclusive licensing.

Licensing Contact: Tara Kirby, PhD; 301/435-4426; tarak@mail.nih.gov.

Collaborative Research Opportunity: The NIEHS Laboratory of Structural Biology is seeking statements of capability or interest from parties interested in collaborative research to further develop, evaluate, or commercialize this technology. Please contact Dr. Robert London at 919/541-4879 or london@niehs.nih.gov for more information.

Dated: March 19, 2007.
Steven M. Ferguson,
Director, Division of Technology Development and Transfer, Office of Technology Transfer, National Institutes of Health.

[FR Doc. E7-5676 Filed 3-27-07; 8:45 am]

BILLING CODE 4140-01-P